DEPARTMENT OF COMMERCE

International Trade Administration

[A-570-863]

Honey From the People’s Republic of China: Notice of Amended Final Results Pursuant to Final Court Decision

AGENCY: Import Administration, International Trade Administration, Department of Commerce.

SUMMARY: On May 29, 2008, the Court of International Trade (“CIT”) affirmed the Department's remand determination and entered judgment in Wuhan Bee Healthy Co., Ltd., and Presstek Inc., v. United States, Court No. 05-00438, Slip Op. 08-61 (Ct. Int’l Trade) (May 29, 2008) (“Wuhan v. U.S.”), which challenged certain aspects of the Department of Commerce's (“the Department”) findings in Honey from the People's Republic of China: Final Results and Final Rescission, In Part, of Antidumping Duty Administrative Review, 70 FR 38873 (July 6, 2005) (“Final Results”) and the accompanying Issues and Decision Memorandum. As explained below, in accordance with the order contained in the CIT’s May 29, 2008, Wuhan v. U.S., the Department is amending the Final Results of the review to apply the recalculated surrogate value for labor in the Department’s normal value calculation.

EFFECTIVE DATE: September 19, 2008.

FOR FURTHER INFORMATION CONTACT: Bobby Wong or Scot T. Fullerton, AD/CVD Operations, Office 9, Import Administration, U.S. Department of Commerce, 14th Street and Constitution Avenue NW, Room 4003, Washington, DC 20230; telephone: (202) 482-0409 or (202) 482-1386, respectively.

SUPPLEMENTARY INFORMATION:

Background

On June 27, 2005, the Department completed its Final Results of the second administrative review of honey from the People’s Republic of China (“PRC”). On July 20, 2007, the CIT issued its order remanding the case to the Department, requesting that the Department explain its decisions, (1) to include data from high-wage countries in its non-market economy (“NME”) wage rate calculation, and (2) to exclude from that calculation data from twenty-two low-wage countries placed on the record by plaintiffs. See Wuhan Bee Healthy Co., Ltd. v. United States, 2007 Ct. Int’l. Trade, LEXIS 115, Slip Op. 07-113 (“Wuhan Remand”). Additionally, the Department requested a voluntary remand to recalculate the PRC wage rate using the data set out in its remand request. The CIT also directed the Department to reopen the record to provide parties an opportunity to submit comments regarding the Department’s application of ad valorem versus per unit assessment rates. See Wuhan Remand, 2007 Ct. Int’l Trade, LEXIS 115, Slip Op. 07-113 at *63.

On August 3, 2007, the Department reopened the administrative record to allow parties an opportunity to comment on the Department’s proposed change in methodology from an ad valorem to a per-unit duty assessment. Petitioners filed comments in support of the Department’s proposed change. Respondents did not provide comments. On September 7, 2007, the Department released its draft remand results to interested parties for comments. Again, respondents did not provide comments.

On October 16, 2007, the Department submitted the final Remand Results to the CIT. On May 29, 2008, the CIT issued its ruling and sustained the Department’s remand results. See Wuhan v. U.S., Court No. 05-00438, Slip Op. 08-61, at 2. The CIT found that the Department provided a reasonable explanation and conducted a reasonable analysis, concerning the inclusion and exclusion of specific countries in the regression analysis, sufficient to address the court’s concerns. Furthermore, the CIT found that, with respect to the voluntary remand, the Department explained its methodology reasonably, and thus sustained the Department’s recalculation of the surrogate labor rate. No appeals were filed with the United States Court of Appeals for the Federal Circuit (“CAFC”).

Amendment to the Final Determination

Because there is now a final and conclusive court decision, effective as of the publication date of this notice, we are amending the Final Results and revising the weighted average dumping margins for Wuhan Bee Healthy Co., Ltd. (“Wuhan Bee”):

Honey From the PRC
Manufacturer/Exporter | Weighted-Average Margin (Percent)
Wuhan Bee | 101.48

We have calculated Wuhan Bee’s company-specific antidumping margin as 101.48 percent. See the Memorandum to the File from Bobby Wong, “Analysis Memorandum for the Draft Results of the Redetermination of the Wage Rate Remand for Antidumping Duty Administrative Review of Honey from the People’s Republic of China for Wuhan Bee Healthy Co., Ltd.,” dated September 6, 2007 (“Draft Results Analysis Memo”). There have been no changes to this analysis for these amended final results. In accordance with the Department’s practice of applying importer-specific assessment rates, we will instruct United States Customs and Border Protection (“CBP”) to apply the importer-specific assessment rate for Wuhan Bee’s exports to the United States. See Draft Results Analysis Memo at Attachment 2. The Department intends to issue appropriate assessment instructions directly to CBP 15 days after the publication of the final results of this review.

This notice is issued and published in accordance with sections 751(a)(1) and 777(i)(1) of the Tariff Act of 1930, as amended.

Dated: September 8, 2008.
David M. Spooner,
Assistant Secretary for Import Administration.

[FR Doc. E8-21979 Filed 9-18-08; 8:45 am]

BILLING CODE 3510-DS-S